DEPARTMENT OF HEALTH AND HUMAN SERVICES

Administration for Children and Families

Proposed Information Collection Activity; Child Care and Development Fund (CCDF) Consumer Education Website and Reports of Serious Injuries and Death

AGENCY: Office of Child Care, Administration for Children and Families, Department of Health and Human Services.

ACTION: Request for Public Comments.

SUMMARY: The Office of Child Care (OCC), Administration for Children and Families (ACF), U.S. Department of Health and Human Services (HHS), is requesting a 3-year extension of the CCDF Consumer Education website and Reports of Serious Incidents and Death (Office of Management and Budget (OMB) #: 0970-0473, expiration date: April 30, 2023). There are no changes requested to the reporting requirements.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION: Description: The existing Consumer Education website reporting requirement will not be modified and requires states and territories to include information about state or territory policies (related to licensing, monitoring, and background checks) and provider-specific information, including results of monitoring and inspection reports and, if available, information about quality. The existing Reporting of Serious Injuries and Death reporting requirement will not be modified. CCDF Lead Agencies must establish procedures that require child care providers that care for children receiving CCDF subsidies to report to a designated state, territorial, or tribal entity any serious injuries or deaths of children occurring in child care. There are no standard federal forms associated with these reporting requirements.

Respondents: The Consumer Education website information collection requirement applies to the 50 states, the District of Columbia, and 5 territories that receive CCDF grants. Reporting of Serious Injuries and Death is a requirement for child care providers.

Annual Burden Estimates
Instrument | Total number of respondents | Total number of responses per respondent | Average burden hours per response | Total burden hours | Annual burden hours
Consumer Education Website | 56 | 1 | 300 | 50,400 | 16,800
Reporting of Serious Injuries and Death | 10,000 | 1 | 1 | 30,000 | 10,000

Estimated Total Annual Burden Hours: 26,800.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Pub. L. 113-186; 42 U.S.C. 9858 et seq.

Mary B. Jones,
ACF/OPRE Certifying Officer.

[FR Doc. 2022-27665 Filed 12-20-22; 8:45 am]

BILLING CODE 4184-43-P